LEGAL SERVICES CORPORATION

Sunshine Act Meetings

TIME AND DATE: The Legal Services Corporation's Board of Directors and its six committees will meet July 27-28, 2020. On Monday, July 27, the first meeting will commence at 11:00 a.m., Eastern Daylight Time (EDT), with the next meeting commencing promptly upon adjournment of the immediately preceding meeting. On Tuesday, July 28, the first meeting will commence at 11:00 p.m., EDT, with the next meeting commencing promptly upon adjournment of the immediately preceding meeting. On Tuesday, July 28, the closed session meeting of the Board of Directors will commence at 3:30 p.m., EDT.

PLACE: Public notice of virtual remote meeting.

Due to the COVID-19 public health crisis, Legal Services Corporation (LSC) will be conducting the July 27-28, 2020 meetings remotely via ZOOM.

Public Observation: Unless otherwise noted herein, the Board and all committee meetings will be open to public observation. Members of the public who wish to participate remotely in the public proceedings may do so by following the directions provided below.

Directions for Open Sessions

July 27, 2020

• To join the Zoom meeting by computer: please click the below link.

• https://us02web.zoom.us/j/87535270597?pwd=NmZhclFsbWJUMjZNemtveDIyempGdz09

• Meeting ID: 875 3527 0597

• Password: Justice74

• To join the Zoom meeting with one touch from your mobile phone, click below:

+19292056099, 87535270597#, 0#, 706932982# US (New York)

+13017158592, 87535270597#, 0#, 706932982# US (Germantown)

• To join the Zoom meeting by phone, use this information:

Dial by your location

+1 929 205 6099 US (New York)

+1 301 715 8592 US (Germantown)

+1 312 626 6799 US (Chicago)

+1 669 900 6833 US (San Jose)

+1 253 215 8782 US (Tacoma)

+1 346 248 7799 US (Houston)

• Meeting ID: 875 3527 0597

• Password: 706932982

Find your local number: https://us02web.zoom.us/u/k1qUDam4e

July 28, 2020

• To Join the Zoom Meeting by computer: please click the below

https://us02web.zoom.us/j/84929718310?pwd=VzVaTU84bXhIb0ExYy8yVWdhYUl4dz09

• Meeting ID: 849 2971 8310

• Password: Justice74

• To join the Zoom meeting with one touch from your mobile phone, click the below link

+19292056099, 84929718310#, 0#, 570001932# US (New York)

+13017158592, 84929718310#, 0#, 570001932# US (Germantown)

Dial by your location

+1 929 205 6099 US (New York)

+1 301 715 8592 US (Germantown)

+1 312 626 6799 US (Chicago)

+1 669 900 6833 US (San Jose)

+1 253 215 8782 US (Tacoma)

+1 346 248 7799 US (Houston)

• Meeting ID: 849 2971 8310

• Password: 570001932

Find your local number: https://us02web.zoom.us/u/kct5alEjLP

• When connected to the call, please immediately “MUTE” your telephone.

Members of the public are asked to keep their telephones muted to eliminate background noises. To avoid disrupting the meeting, please refrain from placing the call on hold if doing so will trigger recorded music or other sound. From time to time, the Chair may solicit comments from the public.

• To participate in the meeting during public comment you will be notified when your microphone is no longer “MUTED” and you may give your questions, and or comments.

Meeting Schedule
Monday, July 27, 2020 | ** Time
1. Governance and Performance Review Committee | 11:00 a.m.
2. Institutional Advancement Committee |
3. Communications Subcommittee of the Institutional Advancement Committee |
4. Delivery of Legal Services Committee |
5. Operations & Regulations Committee |
Tuesday, July 28, 2020 | ** Time
1. Finance Committee | 11:00 a.m.
2. Audit Committee |
3. Board of Directors |
** Any portion of the closed session consisting solely of briefings does not fall within the Sunshine Act's definition of the “meeting” and, therefore, the requirements of the Sunshine Act do not apply to such portion of the closed session. 5 U.S.C. 552b (a)(2) and (b). See also 45 C.F.R. § 1622.2 & 1622.3. Please note all meetings are Eastern Daylight Time (EDT).

STATUS: Open, except as noted below.

Board of Directors—Open, except that, upon a vote of the Board of Directors, a portion of the meeting may be closed to the public to hear briefings by management and LSC's Inspector General, and to consider and act on the General Counsel's report on potential and pending litigation involving LSC.*

Institutional Advancement Committee—Open, except that, upon a vote of the Board of Directors, the meeting may be closed to the public to consider and act on recommendation of new Leaders Council invitees and to receive a briefing on the Development activities.**

Audit Committee—Open, except that the meeting may be closed to the public to hear a briefing on the Office of Compliance and Enforcement's active enforcement matters.**

A verbatim written transcript will be made of the closed session of the Board, Institutional Advancement Committee, and Audit Committee meetings. The transcript of any portions of the closed sessions falling within the relevant provisions of the Government in the Sunshine Act, 5 U.S.C. 552b(c)(6) and (10), will not be available for public inspection. A copy of the General Counsel's Certification that, in his opinion, the closing is authorized by law will be available upon request.

MATTERS TO BE CONSIDERED:

July 27, 2020

Governance and Performance Review Committee

Open Session

1. Approval of agenda

2. Approval of minutes of the Committee's Open Session meeting on April 20, 2020

3. Report on process and timeline for preparation for Administration Transition teams

4. Consider and act on other business

5. Public comment

6. Consider and act on motion to adjourn the meeting

Institutional Advancement Committee

Open Session

1. Approval of agenda

2. Approval of minutes of the Committee's Open Session meeting of April 20, 2020

3. Update on Leaders Council and Emerging Leaders Council

• John G. Levi, Chairman of the Board

4. Development report

• Nadia Elguindy, Director of Institutional Advancement

• Ron Flagg, President

5. Consider and act on Resolution #2020-XXX, Minnesota Charitable Organization Annual Report Form

6. Public Comment

7. Consider and act on other business

8. Consider and act on motion to adjourn the open session meeting and proceed to a closed session

Closed Session

1. Approval of minutes of the Committee's Closed Session meeting of April 20, 2020

2. Development activities report

• Nadia Elguindy, Director of Institutional Advancement

3. Consider and act on motion to approve Leaders Council and Emerging Leaders Council invitees

4. Consider and act on other business

5. Consider and act on motion to adjourn the meeting

July 27, 2020

Communications Subcommittee of the Institutional Advancement Committee

Open Session

1. Approval of agenda

2. Approval of minutes of the Subcommittee's Open Session meeting of April 20, 2020

3. Communications and social media update

• Carl Rauscher, Director of Communications and Media Relations

4. Public comment

5. Consider and act on other business

6. Consider and act on motion to adjourn the meeting

July 27, 2020

Delivery of Legal Services Committee

Open Session

1. Approval of agenda

2. Approval of minutes of the Committee's Open Session meeting on April 20, 2020

3. Presentation on Remote Oversight

• Joyce McGee, Director, Office of Program Performance

• Lora Rath, Director, Office of Compliance and Enforcement

4. Performance Criteria Update

• Lynn Jennings, Vice President for Grants Management

5. Panel: COVID-19 Effects on State, Local, and Private Funding for Grantees

• Jennifer Bentley, Executive Director, Michigan Bar Foundation; President, National Association of IOLTA Programs

• Nalani Fujimori Kaina, Executive Director, Legal Aid Society of Hawai'i

• Nick Smithberg, Executive Director, Texas Access to Justice foundation

• Betty Torres, Executive Director, Texas Access to Justice Foundation

• Moderator: Lynn Jennings, Vice President for Grants Management

6. Public comment

7. Consider and act on other business

8. Consider and act on motion to adjourn the meeting

July 27, 2020

Operations & Regulations Committee

Open Session

1. Approval of agenda

2. Approval of minutes of the Committee's Open Session meeting of April 20, 2020

3. Consider and act on final rule to update 45 CFR parts 1610 and 1630

• Mark Freedman, Senior Associate General Counsel

• Public comment on the final rule

4. Report on the regulatory issues involving the COVID-19 Pandemic

• Mark Freedman, Senior Associate General Counsel

5. Update on public comment on the draft Financial Guide to replace the Accounting Guide

• Mark Freedman, Senior Associate General Counsel

• Stuart Axenfeld, Deputy Director for Fiscal Compliance, Office of Compliance and Enforcement

6. Public comment

7. Consider and act on other business

8. Consider and act on adjournment of meeting

July 28, 2020

Finance Committee

Open Session

1. Approval of agenda

2. Approval of minutes of the Combined Finance and Audit Committee's Open Session meeting on April 21, 2020

3. Approval of the minutes of the Combined Finance and Audit Committee's Closed Session meeting of April 21, 2020

4. Approval of the minutes of the Committee's Open Session meeting of June 16, 2020

5. Approval of the minutes of the Committee's Open Session meeting of June 30, 2020

6. Presentation of LSC's Financial Report for the quarter ending June 30, 2020

• Debbie Moore, Chief Financial Officer & Treasurer

7. Report on the FY 2021 appropriations process and COVID-19 Supplemental Appropriations

• Carol Bergman, Vice President for Government Relations & Public Affairs

8. Consider and act on Temporary Operating Authority for FY 2021, Resolution #2020-XXX

• Debbie Moore, Treasurer and Chief Financial Officer

9. Public comment

10. Consider and act on other business

11. Consider and act on adjournment of meeting

July 28, 2020

Audit Committee

Open Session

1. Approval of agenda

2. Approval of minutes of the Committee's Open Session meeting on April 21, 2020

3. Approval of the Combined Audit and Finance Committees' Open Session meeting of April 21, 2020

4. Briefing of Office of Inspector General

• Jeffrey Schanz, Inspector General

• Roxanne Caruso, Assistant Inspector General for Audits

5. Management update regarding risk management

• Ronald Flagg, President

6. Briefing about follow-up by the Office of Compliance and Enforcement on referrals by the Office of Inspector General regarding audit reports and annual Independent Public audits of grantees

• Lora Rath, Director of Compliance and Enforcement

• Roxanne Caruso, Assistant IG for Audits

7. Public comment

8. Consider and act on other business

9. Consider and act on motion to adjourn the open session meeting and proceed to a closed session

Closed Session

1. Approval of minutes of the Committee's Closed Session meeting of April 21, 2020

2. Approval of the Combined Audit and Finance Committees' Closed Session Meeting of April 21, 2020

3. Briefing on status of Audit recommendations and, pursuant to Section VIII(C) (1) of the Committee Charter, review of LSC's systems of internal controls that are designed to minimize the risk of fraud, theft, corruption, or misuse of funds

• Debbie Moore, Treasurer & chief Financial Officer

4. Consider and act on adjournment of meeting

July 28, 2020

Board of Directors

Open Session—July 28, 2020

1. Pledge of Allegiance

2. Approval of agenda

3. Approval of minutes of the Board's Open Session meeting of April 21, 2020

4. Honor and thank American Bar Association President Judy Perry Martinez for her support of LSC during her presidential year

5. Chairman's Report

6. Members' Report

7. President's Report

8. Inspector General's Report

9. Consider and act on the report of the Governance and Performance Committee

10. Consider and act on the report of the Operations and Regulations Committee

11. Consider and act on the report of the Finance Committee

12. Consider and act on the report of the Audit Committee

13. Consider and act on the report of the Institutional Advancement Committee

14. Consider and act on the report of the Delivery of Legal Services Committee

15. Consider and act on Resolution 2020-XXX, adopting LSC's Appropriation Request for Fiscal Year 2022

16. Report on process and timeline for Strategic Plan

• Ronald Flagg, President

17. Veterans Task Force Update

• Ronald Flagg, President

18. Disaster Task Force Update

• Lynn Jennings, Vice President for Grants Management

19. Public Comment

20. Consider and act on other business

21. Consider and act on whether to authorize a closed session of the Board to address items listed below

Closed Session

1. Approval of minutes of the Board's Closed Session meeting of April 21, 2020

2. Management briefing

3. Discuss the 2021 Innovations in Technology Conference

4. Inspector General briefing

5. Consider and act on General Counsel's report on potential and pending litigation involving LSC

6. Consider and act on prospective Leaders Council and Emerging Leaders Council invitees

7. Consider and act on motion to adjourn meeting

CONTACT PERSON FOR MORE INFORMATION: Karly Satkowiak, Special Counsel at (202) 295-1633 and Katherine Ward, Executive Assistant to the Vice President & General Counsel, at (202) 295-1500.

Questions may be sent by electronic mail to FR_NOTICE_QUESTIONS@lsc.gov.

Non-Confidential Meeting Materials: Non-confidential meeting materials will be made available in electronic format at least 24 hours in advance of the meeting on the LSC website, at http://www.lsc.gov/board-directors/meetings/board-meeting-notices/non-confidential-materials-be-considered-open-session.

Dated: July 16, 2020.
Katherine Ward,
Executive Assistant to the Vice President for Legal Affairs, General Counsel & Corporate Secretary.

[FR Doc. 2020-15856 Filed 7-17-20; 4:15 pm]

BILLING CODE 7050-01-P